INTERNATIONAL TRADE COMMISSION

[USITC SE-14-034]

Sunshine Act Meeting

AGENCY HOLDING THE MEETING: United States International Trade Commission.

TIME AND DATE: October 14, 2014 at 11:00 a.m.

PLACE: Room 101, 500 E Street SW., Washington, DC 20436, Telephone: (202) 205-2000

STATUS: Open to the public

MATTERS TO BE CONSIDERED:

1. Agendas for future meetings: none.

2. Minutes.

3. Ratification List.

4. Vote in Inv. Nos. 701-TA-502 and 731-TA-1227 (Final)(Steel Concrete Reinforcing Bar from Mexico and Turkey). The Commission is currently scheduled to complete and file its determinations and views of the Commission on October 23, 2014.

5. Outstanding action jackets: none.

In accordance with Commission policy, subject matter listed above, not disposed of at the scheduled meeting, may be carried over to the agenda of the following meeting.

By order of the Commission.
Issued: October 7, 2014.
William R. Bishop,
Supervisory Hearings and Information Officer.

[FR Doc. 2014-24313 Filed 10-8-14; 11:15 am]

BILLING CODE 7020-02-P